LEGAL SERVICES CORPORATION

Sunshine Act Meeting of the Board of Directors Committee on Provision for the Delivery of Legal Services

Time and Date: The Committee on Provision for the Delivery of Legal Services of the Legal Services Corporation Board of Directors will meet on January 31, 2003. The meeting will begin at 9:00 a.m. and continue until the Committee concludes its agenda.

Location: The Washington Court Hotel, 525 New Jersey Avenue, NW., Washington, DC.

Status of Meeting: Open.

Matters to be Considered: 1. Approval of agenda.

2. Approval of the minutes of the Committee's meeting of November 8, 2002.

3. Strategic Directions 2002-2005: Submission of the 2002 Progress Report for Programs by Randi Youells, Vice President for Programs.

4. Perspectives on GIS Mapping:

(a) Office of the Inspector General's report on the Mapping Evaluation—Legal Services in Georgia, by Leonard Koczur, David Maddox, and Ed Jurkevics.

(b) Report by Michael Genz and Glenn Rawdon of the Office of Program Performance (OPP) on LSC Technology Grants Designed to Enable Grantees to Use GIS Mapping in a Cost-Effective Manner.

5. The State Planning Evaluation Instrument: Design and Implementation Panel of Design Team Members with Bob Gross (OPP Senior Counsel), Bob Clyde (Executive Director, Ohio Legal Aid Foundation), Judge Juanita Bing Newton (Deputy Chief Administrative Judge for Justice Initiatives State of New York Unified Court System), and Neal Dudovitz (Executive Director, Neighborhood Legal Services of Los Angeles County).

6. The LSC Diversity Training Module/Next Steps Panel with Pat Hanrahan (Special Counsel to the Vice President for Programs), Wilhelm Joseph (Executive Director, Legal Aid Bureau, Inc.), and Gurdon H. Buck (Board Chair, Statewide Legal Services of Connecticut, Inc.).

7. Consider and act on other business.

8. Public comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: January 23, 2003.
Victor M. Fortuno,
Vice President for Legal Affairs, General Counsel and Corporate Secretary.

[FR Doc. 03-1989 Filed 1-24-03; 8:45 am]

BILLING CODE 7050-01-P